RAILROAD RETIREMENT BOARD

Sunshine Act Meetings

TIME AND DATE: 1:30 p.m., July 16, 2019.

PLACE: 8th Floor Board Conference Room, 844 North Rush Street, Chicago, Illinois 60611.

STATUS: The initial part of this meeting will be open to the public. The rest of the meeting will be closed to the public.

MATTERS TO BE CONSIDERED:

Portions Open to the Public

(1) Albany Office recommendations/alternatives

(2) Status update from Wisconsin Central Working Group

(3) Status update from Office of Legislative Affairs on the state of the budget

(4) Procedure for submitting items for the Board Docket

Portions Closed to the Public

(1) Status update on internal personnel matter

CONTACT PERSON FOR MORE INFORMATION: Stephanie Hillyard, Secretary to the Board, Phone No. 312-751-4920.

Dated: July 2, 2019.
Stephanie Hillyard,
Secretary to the Board.

[FR Doc. 2019-14501 Filed 7-3-19; 11:15 am]

BILLING CODE 7905-01-P